DEPARTMENT OF ENERGY

Federal Energy Regulatory Commission

[Docket No. EG01-126-000]

PPL Holtwood, LLC; Errata Notice; Notice of Application for Commission Redetermination of Exempt Wholesale Generator Status

February 14, 2001.

Take notice that the above-referenced notice (66 FR 10278, February 14, 2001) was inadvertently issued under Docket No. EG01-40-000. Since then, it has been reassigned a new docket number as captioned above.

Linwood A. Watson, Jr.,
Acting Secretary.

[FR Doc. 01-4192 Filed 2-20-01; 8:45 am]

BILLING CODE 6717-01-M